DEPARTMENT OF HOUSING AND URBAN DEVELOPMENT

[Docket No. FR-5100-FA-15]

Announcement of Funding Awards for the Housing Choice Voucher Family Self Sufficiency Program for Fiscal Year 2007

AGENCY: Office of the Assistant Secretary for Public and Indian Housing, HUD.

ACTION: Announcement of funding awards.

SUMMARY: In accordance with section 102(a)(4)(C) of the Department of Housing and Urban Development Reform Act of 1989, this announcement notifies the public of funding decisions made by the Department for funding under the Fiscal Year (FY) 2007 Notice of Funding Availability (NOFA) for the Family Self Sufficiency (FSS) funding for FY2007. This announcement contains the consolidated names and addresses of those award recipients selected for funding based on the rating and ranking of all applications and the allocation of funding available for each state.

FOR FURTHER INFORMATION CONTACT: For questions concerning the FY2007 HCV FSS awards, contact the Office of Public and Indian Housing's Grant Management Center, Director, Iredia Hutchinson, Department of Housing and Urban Development, Washington, DC 20410-5000, telephone (202) 402-0273. For the hearing or speech impaired, these numbers may be accessed via TTY (text telephone) by calling the Federal Information Relay Service at 1 (800) 877-8339. (Other than the “800” TTY number, these telephone numbers are not toll-free.)

SUPPLEMENTARY INFORMATION: The authority for the $47,000,000 in one-year budget authority FSS program coordinators is found in the Departments of Veteran Affairs and Housing and Urban Development, and Independent Agencies Appropriations Act, FY2007 (Pub. L. 109). The allocation of housing assistance budget authority is pursuant to the provisions of 24 CFR part 791, subpart D, implementing section 213(d) of the Housing and Community Development Act of 1974, as amended.

This program is intended to promote the development of local strategies to coordinate the use of assistance under the Housing Choice Voucher program with public and private resources to enable participating families to achieve economic independence and self-sufficiency. An FSS program coordinator assures that program participants are linked to the supportive services they need to achieve self-sufficiency.

The FY2007 awards announced in this notice were selected for funding in a competition announced in the NOFA published on March 13, 2007. In accordance with section 102(a)(4)(C) of the Department of Housing and Urban Development Reform Act of 1989 (103 Stat. 1987, 42 U.S.C. 3545), the Department is publishing the names, addresses, and amounts of the 618 awards made under the HCV FSS competitions.

Dated: February 7, 2008.
Paula O. Blunt,
General Deputy Assistant Secretary for Office of Public and Indian Housing.

Appendix A.—Fiscal Year 2007 Funding Awards for the Housing Choice Voucher Family Self Sufficiency Program
Organization | Address/City/State/Zip Code | Amount
Alaska Housing Finance Corporation | P.O. Box 101020, Anchorage, AK 99510-1020 | $64,266
Housing Authority of the Birmingham District | 1826 3rd Avenue South, Birmingham, AL 35233 | 64,266
Bessemer Housing Authority | 1515 Fairfax Avenue, Bessemer, AL 35020 | 35,556
Florence Housing Authority | 110 South Cypress Street, Suite 1, Florence, AL 35630-5551 | 46,809
Albertville Housing Authority | P.O. Box 1126, 711 South Broad Street, Albertville, AL 35950 | 41,000
Mobile Housing Board | 151 South Claiborne Street, Mobile, AL 36602 | 78,686
Prichard Housing Authority | 4559 St. Stephens Road, Eight Mile, AL 36613 | 45,235
Housing Authority of the City of Decatur, Alabama | 100 Wilson Street Northeast, Decatur, AL 35601 | 34,093
Alexander City Housing Authority | 2110 County Road, Alexander City, AL 35010 | 32,623
Tuscaloosa Housing Authority | 2808 10th Avenue, Tuscaloosa, AL 35401 | 50,437
The Housing Authority of the City of Huntsville | 200 Washington, Huntsville, AL 35804-0486 | 56,307
Northwest Regional Housing Authority | P.O. Box 2568, 114 Sisco Avenue, Harrison, AR 72602 | 39,809
Jonesboro Urban Renewal and Housing Authority | 330 Union Street, Jonesboro, AR 72401 | 41,212
Housing Authority of the City of West Memphis | 2820 Harrison Street, West Memphis, AR 72301 | 40,300
Wynne Housing Authority | 200 Fisher Place, Wynne, AR 72396 | 27,052
McGehee Public Residential Housing Facilities Board | P.O. Box 725, 300 Shady Lane, McGehee, AR 71654 | 31,851
Housing Authority of the City of Hot Springs | P.O. Box 1257, Hot Springs, AR 71901-1257 | 32,968
Housing Authority of the City of Hope | 720 Texas Street, Hope, AR 71801-6327 | 30,697
White River Regional Housing Authority | P.O. Box 650, Melbourne, AR 72556 | 38,430
Housing Authority of the City of Pine Bluff | 2503 Bell Mead, Pine Bluff, AR 71601 | 74,450
Lee County Housing Authority | 100 West Main, Marianna, AR 72360 | 23,933
Housing Authority of Lonoke County | P.O. Box 74, 617 North Greenlaw Street, Carlisle, AR 72024 | 36,410
Mississippi County Public Facilities Board | 810 West Keiser, Osceola, AR 72370 | 72,955
Pope County Public Facilities Board | P.O. Box 846, 301 East 3rd Street, Russellville, AR 72811 | 34,992
North Little Rock Housing Authority | P.O. Box 516, 2201 Division, North Little Rock, AR 72115 | 107,871
Pulaski County Housing Authority | 201 South Broadway, Suite 220, Little Rock, AR 72201 | 34,810
Fort Smith Housing Authority | 2100 North 31st Street, Fort Smith, AR 72904 | 98,152
Family Self Sufficiency Program | P.O. Box 167, 100 Clawson Avenue, Bisbee, AZ 85603 | 53,845
Chandler, City of | P.O. Box 4008, Mail Stop #101, Chandler, AZ 85244-4008 | 53,369
City of Phoenix Housing Authority | 251 West Washington, 4th Floor, Phoenix, AZ 85003 | 196,500
City of Scottsdale Housing Agency | 7515 East 1st Street, Scottsdale, AZ 85251 | 54,034
City of Tempe Housing Services | 21 East 6th Street, Suite 214, Tempe, AZ 85281 | 128,532
City of Mesa Housing Services Division | 55 North Center Street, Mesa, AZ 85201 | 95,619
City of Tucson | P.O. Box 27210, 310 North Commerce Park Loop, Tucson, AZ 85726-7210 | 116,776
Pinal County Division of Housing | 970 North Eleven Mile Corner Road, Casa Grande, AZ 85222-7242 | 50,102
Housing Authority of the City of Yuma | 420 South Madison Avenue, Yuma, AZ 85364 | 128,687
Yuma County Housing Department | 8450 West Highway 95 #88, Somerton, AZ 85350 | 25,195
Housing Authority of Maricopa County | 2024 North 7th Street, Suite 101, Phoenix, AZ 85006 | 44,255
Mohave, County of | P.O. Box 7000, Kingman, AZ 86402-7000 | 49,113
Oakland Housing Authority | 1619 Harrison Street, Oakland, CA 94612 | 128,532
Housing Authority of the County of Alameda | 22941 Atherton Street, Hayward, CA 94541-6633 | 196,500
Housing Authority of the County of Contra Costa | P.O. Box 2759, 3133 Estudillo Street, Martinez, CA 94553 | 131,000
El Dorado County Community Services | 550 Main Street, Suite C, Placerville, CA 95667 | 93,023
Housing Authority of the City of Fresno | Post Office Box 11985, Fresno, CA 93776-1985 | 251,724
Housing Authority of the County of Fresno | Post Office Box 11985, Fresno, CA 93776-1985 | 299,981
Imperial Valley Housing Authority | 1401 D Street, Brawley, CA 92227 | 59,947
Housing Authority of the County of Kings | P.O. Box 355, 680 North Douty Street, Hanford, CA 93232-0355 | 55,550
Housing Authority of the City of Glendale | 141 North Glendale Avenue, Room 202, Glendale, CA 91206 | 65,000
Pasadena Community Development Commission | 649 North Fair Oaks Avenue, Suite 202, Pasadena, CA 91103 | 41,212
Culver City Housing Agency | 9770 Culver Boulevard, Culver City, CA 90232 | 64,266
City of Norwalk | 12035 Firestone Boulevard, Norwalk, CA 90650 | 62,736
City of Pomona Housing Authority | 505 South Garey Avenue, Pomona, CA 91769 | 65,500
Pico Rivera Housing Assistance Agency | P.O. Box 1016, 6615 Passons Boulevard, Pico Rivera, CA 90660 | 64,265
Housing Authority of the City of Madera | 205 North G Street, Madera, CA 93637 | 118,848
Housing Authority of the County of Marin | 4020 Civic Center Drive, San Rafael, CA 94903 | 131,000
Housing Authority of the County of Monterey | 123 Rico Street, Salinas, CA 93907 | 62,632
The City of Napa Housing Authority | P.O. Box 660, 1115 Seminary Street, Napa, CA 94559 | 65,500
City of Anaheim Housing Authority | 201 South Anaheim Boulevard, Suite 203, Anaheim, CA 92805 | 127,292
Orange County Housing Authority | 1770 North Broadway, Santa Ana, CA 92706 | 126,161
Housing Authority of the City of Santa Ana | P.O. Box 22030 (M-27), Santa Ana, CA 02702-2030 | 126,120
Roseville Housing Authority | 311 Vernon Street, Roseville, CA 95678 | 64,266
Housing Authority of the County of Riverside | 5555 Arlington Avenue, Riverside, CA 92504 | 65,000
Housing Authority of the County of San Bernardino | 715 East Brier Drive, San Bernardino, CA 92408-2841 | 119,244
City of Oceanside Community Development Commission | 300 North Coast Highway, Oceanside, CA 92054 | 131,000
Housing Authority of the County of San Diego | 3989 Ruffin Road, San Diego, CA 92123 | 65,500
San Diego Housing Commission | 1122 Broadway, Suite 300, San Diego, CA 92101 | 393,000
San Francisco Housing Authority | 440 Turk Street, San Francisco, CA 94102 | 64,266
Housing Authority of the County of San Joaquin | P.O. Box 447, 448 South Center Street, Stockton, CA 95203 | 128,532
Housing Authority of the City of San Luis Obispo | 487 Left Street, San Luis Obispo, CA 93401 | 50,059
Housing Authority of the County of San Mateo | 264 Harbor Boulevard, #A, Belmont, CA 94070 | 131,000
Housing Authority of the City of Santa Barbara | 808 Laguna Street, Santa Barbara, CA 93101 | 130,000
Housing Authority of the County of Santa Barbara | 815 West Ocean Avenue, Lompoc, CA 93436 | 65,500
Housing Authority of the County of Santa Clara | 505 West Julian Street, San Jose, CA 95110-2300 | 131,000
Housing Authority of the City of San Jose | 505 West Julian Street, San Jose, CA 95110-2300 | 65,500
Housing Authority of the County of Santa Cruz | 2931 Mission Street, Santa Cruz, CA 95060 | 64,266
Housing Authority of the City of Redding | P.O. Box 496071, Redding, CA 96049-6071 | 56,991
Shasta County Housing Authority | 1450 Court Street, Suite 108, Redding, CA 96001 | 39,779
Fairfield Housing Authority | 823-B Jefferson Street, Fairfield, CA 94533 | 131,000
City of Vallejo HD Housing Authority | 200 Georgia Street, Vallejo, CA 94590 | 131,000
Housing Authority of the City of Benicia | 28 Riverhill Drive, Benicia, CA 94510 | 125,750
Vacaville Housing Authority | 40 Eldridge Avenue Suite 2, Vacaville, CA 95688 | 128,532
Sonoma County Community Development Commission | 1440 Guerneville, Santa Rosa, CA 95403-4107 | 64,266
Housing Authority of the County of Stanislaus | P.O. Box 581918, 1701 Robertson Road, Modesto, CA 95358-0033 | 54,465
Consolidated Area Housing Authority of Sutter County | 448 Garden Highway, Yuba, CA 95991 | 50,449
Housing Authority of the City of Oxnard | 435 South D Street, Oxnard, CA 93030 | 61,693
Housing Authority of the City of San Buenaventura | 995 Riverside Street, Ventura, CA 93001-1636 | 106,664
Area Housing Authority of the County of Ventura | 1400 West Hillcrest Drive, Newbury Park, CA 91320 | 63,000
Yuba County Housing Authority | 915 8th Street, Suite 130, Marysville, CA 95901 | 58,972
Solano County Housing Authority | 40 Eldridge Avenue, Suite 2, Vacaville, CA 95688 | 110,900
Adams County Housing Authority | 7190 Colorado Boulevard, Commerce City, CO 80022 | 91,219
Housing Authority of the City of Englewood | 3460 South Sherman, Suite 101, Englewood, CO 80113-2664 | 42,844
Colorado Department of Local Affairs, Division of Housing | 1313 Sherman Street, Room 518, Denver, CO 80203-2288 | 62,016
Housing Authority of the City of Colorado Springs | P.O. Box 1575, MC 1490, Colorado Springs, CO 80901 | 48,344
Jefferson County Housing Authority | 7490 West 45th Avenue, Wheat Ridge, CO 80033 | 76,244
Lakewood Housing Authority | 480 South Allison Parkway, Lakewood, CO 80226 | 37,371
Fort Collins Housing Authority | 1715 West Mountain Avenue, Fort Collins, CO 80521 | 131,000
Grand Junction Housing Authority | 1011 North 10th Street, Grand Junction, CO 81501 | 44,374
Housing Authority of the City of Pueblo | 1414 North Santa Fe Avenue, Pueblo, CO 81003 | 41,544
Housing Authority of the City and County of Denver | 777 Grant Street, Denver, CO 80203 | 130,764
Arvada Housing Authority | 8001 Ralston Road, Arvada, CO 80002 | 38,122
Boulder County Housing Authority | P.O. Box 471, Boulder, CO 80306-0471 | 121,072
Housing Authority of the City of Aurora | 10745 East Kentucky Avenue, Aurora, CO 80012 | 43,967
Housing Authority of the City of Norwalk | P.O. Box 508, 24½ Monroe Street, Norwalk, CT 06856-0508 | 194,032
West Hartford Housing Corporation | 80 Shield Street, West Hartford, CT 06110 | 65,500
Housing Authority of the City of Ansonia | 36 Main Street, Ansonia, CT 06401 | 103,824
Housing Authority of the City of New Haven | P.O. Box 1912, 360 Orange Street, New Haven, CT 06509-1912 | 54,982
Housing Authority of the City of Meriden | P.O. Box 911, 22 Church Street, Meriden, CT 06451 | 94,785
Housing Authority of the City of Pompano Beach | 321 West Atlantic Boulevard, Pompano Beach, FL 33060 | 44,750
Broward County Housing Authority | 4780 North State Road 7, Lauderdale Lakes, FL 33319 | 58,829
Deerfield Beach Housing Authority | 533 South Dixie Highway, Deerfield Beach, FL 33441 | 15,321
Housing Authority of the City of Fort Lauderdale | 437 Southwest 4th Avenue, Fort Lauderdale, FL 33315 | 62,394
Punta Gorda Housing Authority | 414 East Charlotte Avenue, Punta Gorda, FL 33950 | 65,000
Jacksonville Housing Authority | 1300 Broad Street, Jacksonville, FL 32202 | 44,863
City of Pensacola Housing Department | P.O. Box 12910, Pensacola, FL 32521-0031 | 30,000
Hernando County Housing Authority | 2 North Broad Street, Brooksville, FL 34601-2921 | 39,044
Housing Authority of the City of Tampa | 1529 West Main Street, Tampa, FL 33607 | 148,626
Housing Authority of the City of Fort Myers | 4224 Michigan Avenue, Fort Myers, FL 33916 | 43,000
The Housing Authority of the City of Bradenton, FL | 1309 6th Street West, Bradenton, FL 34205 | 55,800
Ocala Housing Authority | 1629 Northwest 4th Street, Ocala, FL 34475 | 49,893
Miami-Dade Housing Agency | 1401 North West 7th Street, Miami, FL 33125 | 64,266
Hialeah Housing Authority | 75 East 6th Street, Hialeah, FL 33010 | 70,225
The Housing Authority of the City of Orlando, Florida | 390 North Bumby Avenue, Orlando, FL 32803 | 98,984
Delray Beach Housing Authority | 600 North Congress Avenue, Suite 310B, Delray Beach, FL 33445 | 45,000
West Palm Beach Housing Authority | 1715 Division Avenue, West Palm Beach, FL 33407 | 58,354
Boca Raton Housing Authority | 201 West Palmetto Park Road, Boca Raton, FL 33432-3795 | 50,000
Pasco County Housing Authority | 14517 7th Street, Dade City, FL 33523 | 32,104
Clearwater Housing Authority | 908 Cleveland Street, Clearwater, FL 33755-4511 | 83,454
Housing Authority of Lakeland | 430 Hartsell Avenue, Lakeland, FL 33815 | 48,817
County of Volusia | 123 West Indiana Avenue, Room 302, DeLand, FL 32720 | 55,348
Housing Authority City of Daytona Beach | 211 North Ridgewood Avenue, Daytona Beach, FL 32114 | 36,862
Walton County Housing Agency | 312 College Avenue, Unit D, DeFuniak Springs, FL 32435 | 50,000
Palm Beach County Housing Authority | 3432 West 45th Street, West Palm Beach, FL 33407 | 71,819
Hollywood Housing Authority | 7350 North Davie Road Ext., Hollywood, FL 33024 | 19,711
Housing Authority of the City of Miami Beach | 200 Alton Road, Miami Beach, FL 33139 | 63,000
Carrollton Housing Authority | 1 Roop Street, Carrollton, GA 30117 | 13,520
Housing Authority of Savannah | P.O. Box 1179, Savannah, GA 31402 | 70,021
City of Marietta-Housing Choice Voucher Program | 268 Lawrence Street, Suite 200, Marietta, GA 30253 | 55,577
Housing Authority of the City of Marietta | P.O. Box Drawer K, 95 Cole Street, Marietta, GA 30061 | 55,400
Georgia Department of Community Affairs | 60 Executive Park South, Northeast, Atlanta, GA 30329 | 352,072
Northwest Georgia Housing Authority | 800 North Fifth Avenue, Rome, GA 30162 | 43,329
Housing Authority of the City of College Park | 2000 West Princeton Avenue, College Park, GA 30337 | 62,804
Housing Authority of Fulton County | 10 Park Place South, Suite 550, Atlanta, GA 30303 | 45,193
The Housing Authority of the City of Atlanta, Georgia | 230 John Wesley Dobbs Avenue, Northeast, Atlanta, GA 30303 | 110,682
The Housing Authority, City of Brunswick | P.O. Box 1118, Brunswick, GA 31521-1118 | 42,096
The Housing Authority of the City of Augusta, Georgia | 1435 Walton Way, Augusta, GA 30901 | 99,586
City and County of Honolulu | Honolulu Hale, Honolulu, HI 96813-9926 | 125,549
State of Hawaii | P.O. Box 17907, Honolulu, HI 96817 | 65,500
Kauai, County of; DBA Kauai County Housing Agency | 4444 Rice Street, Suite 330, Lihue, HI 96766-1340 | 126,655
Hawaii County Housing Agency | 50 Wailuku Drive, Hilo, HI 96720 | 64,266
Eastern Iowa Regional Housing Authority | 3999 Pennsylvania Avenue, Suite 200, Dubuque, IA 52002 | 65,000
City of Dubuque | 1805 Central Avenue, Dubuque, IA 52001 | 68,167
Iowa City Housing Authority | 410 East Washington Street, Iowa City, IA 52240 | 118,294
City of Cedar Rapids | 1211 6th Street Southwest, Cedar Rapids, IA 52404 | 96,765
Des Moines Municipal Housing Agency | 100 East Euclid, Suite 101, Des Moines, IA 50313-4534 | 65,500
Central Iowa Regional Housing Authority | 1201 Gateway Drive, Grimes, IA 50111 | 55,837
Municipal Housing Agency of Council Bluffs, IA | 505 South 6th Street, Council Bluffs, IA 51501 | 47,245
Southern Iowa Regional Housing Authority | 219 North Pine Street, Creston, IA 50801 | 42,560
Mid Iowa Regional Housing Authority | 1605 1st Avenue North, Suite 1, Fort Dodge, IA 50501 | 43,931
Municipal Housing Agency of the City of Fort Dodge | 700 South 17th Street, Fort Dodge, IA 50501 | 96,724
Northeast Nebraska Joint HA | 507 7th Street, Suite 401, Sioux City, IA 51102 | 73,572
City of Sioux City Housing Authority | 405 6th Street, Suite 107, Sioux City, IA 51102-0447 | 128,532
Region XII Regional Housing Authority | P.O. Box 663, 320 East 7th Street, Carroll, IA 51401 | 44,750
Idaho Housing and Finance Association | P.O. Box 7899, 565 West Myrtle Street, Boise, ID 83707-1899 | 221,760
Ada County Housing Authority | 1276 River Street Suite #300, Ada, ID 83702 | 110,602
Boise City Housing Authority | 1276 River Street Suite #300, Boise, ID 83702 | 110,604
Southwestern Idaho Cooperative Housing Authority | 1108 West Finch Drive, Nampa, ID 83651 | 132,654
Chicago Housing Authority | 60 East Van Buren, Chicago, IL 60605 | 517,571
Dupage Housing Authority | 711 East Roosevelt Road, Wheaton, IL 60187 | 87,574
Kankakee County Housing Authority | P.O. Box 965, 185 N. Street Joseph Avenue, Kankakee, IL 60901-0965 | 42,428
Housing Authority of Marion County | 719 East Howard, Centralia, IL 68201 | 43,451
Housing Authority of the City of Bloomington | 104 East Wood Street, Bloomington, IL 61701 | 50,258
Menard County Housing Authority | P.O. Box 168, 101 West Sheridan, Petersburg, IL 62675 | 35,000
Peoria Housing Authority | 100 South Richard Pryor Place, Peoria, IL 61605 | 47,736
Housing Authority of the City of Rock Island | 227 21st Street, Rock Island, IL 61201 | 64,266
Springfield Housing Authority | 200 North Eleventh Street, Springfield, IL 62703 | 42,844
Housing Authority of the City of East St. Louis | 700 North 20th Street, East St. Louis, IL 62205-1814 | 63,630
Rockford Housing Authority | 223 South Winnebago Street, Rockford, IL 61102 | 182,934
Housing Authority of the City of Fort Wayne, Indiana | P.O. Box 13489, 7315 South Hanna Street, Fort Wayne, IN 46869-3489 | 97,050
Columbus Housing Authority | 1531 13th Street, Suite G600, Columbus, IN 47201-1300 | 53,508
Logansport Housing Authority | 719 Spencer Street, Suite 100, Logansport, IN 46947 | 29,121
Housing Authority of the City of Goshen | 1101 West Lincoln Avenue, Suite 100, Goshen, IN 46526 | 98,925
Housing Authority City of Elkhart | 1396 Benham Avenue, Elkhart, IN 46516 | 85,304
Housing Authority of the City of Marion, IN | 601 South Adams Street, Marion, IN 46953 | 34,155
Kokomo Housing Authority of the City of Kokomo, IN | P.O. Box 1207, 210 East Taylor Street, Kokomo, IN 46903-1207 | 40,432
Housing Authority City of Vincennes | P.O. Box 1636, 501 Hart Street, Vincennes, IN 47591 | 84,704
Knox County Housing Authority | 11 Powell Street, Bicknell, IN 47512 | 31,524
Housing Authority of the City of Hammond | 1402 173rd Street, Hammond, IN 46324 | 57,671
The Michigan City Housing Authority | 621 East Michigan Boulevard, Michigan City, IN 46360 | 39,000
Indianapolis Housing Agency | 1919 North Meridian Street, Indianapolis, IN 46202 | 209,929
Housing Authority City of Peru | 701 East Main Street, Peru, IN 46970 | 34,528
Housing Authority of the City of Bloomington | 1007 North Summit Street, Bloomington, IN 47404 | 89,256
Housing Authority of South Bend | 501 Alonzo Watson Drive, South Bend, IN 46601 | 36,024
Lafayette Housing Authority | P.O. Box 6687, 100 Executive Drive, Suite J, Lafayette, IN 47905 | 39,299
Housing Authority of the City of Terre Haute | P.O. Box 3086, One Dreiser Square, Terre Haute, IN 47803-0086 | 109,533
Lawrence-Douglas County Housing Authority | 1600 Haskell Avenue, Lawrence, KS 66044 | 73,111
Olathe, City of | P.O. Box 768, 201 North Cherry, Olathe, KS 66051-0768 | 47,975
Manhattan Housing Authority | P.O. Box 1024, 300 North 5th Street, Manhattan, KS 66505 | 36,643
Salina Housing Authority | 469 South 5th Street, Salina, KS 67401 | 55,550
City of Wichita Kansas | 332 North Riverview, Wichita, KS 67203 | 172,912
Topeka Housing Authority | 2010 Southeast California Avenue, Topeka, KS 66607 | 42,298
Pineville/Bell County Urban Renewal and Community Development Agency | 114 West Kentucky Avenue, Pineville, KY 40977 | 31,109
Boone County Fiscal Court | P.O. Box 536, Burlington, KY 41005 | 63,630
Campbell County Department of Housing | P.O. Box 424, 1010 Monmouth Street, Newport, KY 41071 | 46,909
Lexington-Fayette Urban County Housing Authority | 300 West New Circle Road, Lexington, KY 40505-1428 | 48,558
Housing Authority of Floyd County | 402 John M. Stumbo Drive, Langley, KY 41645 | 30,000
Housing Authority of Cynthiana | 148 Federal Street, Cynthiana, KY 41031-1420 | 49,904
Louisville Metro Housing Authority | 420 South Eighth Street, Louisville, KY 40203 | 375,234
City of Covington CDA | 638 Maidson Avenue, 2nd Floor, Covington, KY 41011 | 50,000
Barbourville Urban Renewal & CDA | P.O. Box 806, 338 Court Square, Barbourville, KY 40906 | 31,743
Cumberland Valley Regional Housing Authority | P.O. Box 806, 338 Court Square, Barbourville, KY 40906 | 46,141
City of Richmond Section 8 Housing | P.O. Box 250, Richmond, KY 40475-0250 | 35,380
City of Paducah Section 8 Housing | P.O. Box 2267, 300 South 5th Street, Room 208, Paducah, KY 42002-2267 | 37,452
Housing Authority of Somerset | P.O. Box 449, Somerset, KY 42502 | 82,200
Georgetown Housing Authority | 139 Scorggin Park, Georgetown, KY 40324 | 45,000
Campbellsville Housing & Redevelopment Authority | 400 Ingram Avenue, Campbellsville, KY 42718 | 27,797
Kentucky Housing Corporation | 1231 Louisville Road, Frankfort, KY 40601 | 149,444
Calcasieu Parish Police Jury Housing Department | 1011 Lakeshore Drive, Suite 602, Lake Charles, LA 70601 | 58,287
Jefferson Parish Housing Authority | 1718 Betty Street, Marrero, LA 70072 | 106,090
Housing Authority of the Parish of Natchitoches | 525 Fourth Street, Natchitoches, LA 71457 | 45,456
Housing Authority of New Orleans | 4100 Touro Street, New Orleans, LA 70122 | 75,214
Housing Authority of the City of Monroe | 300 Harrison Street, Monroe, LA 71201-7441 | 26,420
Terrebonne, Parish of | 809 Barrow Street, Houma, LA 70360-4722 | 42,200
Attleboro Housing Authority | 37 Carlon Street, Attleboro, MA 02703 | 53,025
Taunton Housing Authority | 30 Olney Street, Suite B, Taunton, MA 02780 | 65,500
Methuen Housing Authority | 24 Mystic Street, Methuen, MA 01844 | 44,746
Gloucester Housing Authority | P.O. Box 1599, 259 Washington Street, Gloucester, MA 01931-1599 | 41,690
Lynn Housing Authority & Neighborhood Development | 10 Church Street, Lynn, MA 01902 | 58,856
North Andover Housing Authority | One Morkeski Meadows, North Andover, MA 01845 | 43,000
Greenfield Housing Authority | 1 Elm Terrace, Greenfield, MA 01301-2203 | 122,643
Holyoke Housing Authority | 475 Maple Street, Suite One, Holyoke, MA 01040 | 97,422
Chelmsford Housing Authority | 10 Wilson Street, Chelmsford, MA 01824 | 45,006
Lowell Housing Authority | P.O. Box 60, 350 Moody Street, Lowell, MA 01853 | 119,180
Wakefield Housing Authority | 26 Crescent Street, Wakefield, MA 01880 | 8,705
Framingham Housing Authority | 1 John J. Brady Drive, Framingham, MA 01702 | 65,000
Somerville Housing Authority | 30 Memorial Road, Somerville, MA 02145 | 46,831
Woburn Housing Authority | 59 Campbell Street, Woburn, MA 01801 | 116,952
Quincy Housing Authority | 80 Clay Street, Quincy, MA 02170-2799 | 65,500
Braintree Housing Authority | 25 Roosevelt Street, Braintree, MA 02184-8663 | 65,145
Dedham Housing Authority | 163 Dedham Boulevard, Dedham, MA 02026 | 64,266
Plymouth Housing Authority | P.O. Box 3537, 69 Allerton Street, Plymouth, MA 02361-3537 | 45,000
Brockton Housing Authority | 45 Goddard Road, Brockton, MA 02301 | 128,520
Commonwealth of Massachusetts | 100 Cambridge Street, Suite 300, Boston, MA 02114 | 538,379
Chelsea Housing Authority | 54 Locke Street, Chelsea, MA 02150-2250 | 63,630
Gardner Housing Authority | 116 Church Street, Gardner, MA 01440 | 49,271
Worcester Housing Authority | 40 Belmont Street, Worcester, MA 01605 | 63,720
Leominster Housing Authority | 100 Main Street, Leominster, MA 01453 | 46,831
Acton Housing Authority | P.O. Box 681, 68 Windsor Avenue, Acton, MA 01720 | 43,640
Melrose Housing Authority | 910 Main Street, Melrose, MA 02176 | 30,300
Boston Housing Authority | 52 Chauncy Street, Boston, MA 02111 | 189,972
Maryland Department of Housing and Community Development | 100 Community Place, Crownsville, MD 21032 | 36,786
Baltimore County Department of Social Services Housing Office | 6401 York Road, Baltimore, MD 21212 | 127,599
Housing Authority of Calvert County | P.O. Box 2509, 480 Main Street, Prince Frederick, MD 20678 | 51,509
City of Westminster | 56 West Main Street, Westminster, MD 21157 | 43,272
Commissioners of Carroll County | 225 North Center Street, Westminster, MD 21157 | 52,488
Cecil County Housing Agency | 129 East Main Street, Elkton, MD 21921 | 50,504
Housing Authority of the City of Frederick | 209 Madison Street, Frederick, MD 21758 | 99,913
Harford County | 15 South Main Street, Suite 106, Bel Air, MD 21014 | 98,650
Howard County Government | 6751 Columbia Gateway Drive, 3rd Floor, Columbia, MD 21046 | 123,530
Housing Opportunities Commission | 10400 Detrick Avenue, Kensington, MD 20895 | 397,031
Queen Anne's County Housing Authority | P.O. Box 327, Centreville, MD 21617 | 42,624
Housing Authority of St. Mary's County, Maryland | P.O. Box 653, 41650 Tudor Hall Road, Leonardtown, MD 20650 | 43,723
Housing Authority of the City of Hagerstown | 35 West Baltimore Street, Hagerstown, MD 21740 | 49,180
Housing Authority of Washington County | 44 North Potomac Street, Hagerstown, MD 21740 | 30,153
Housing Authority of Baltimore City | 417 East Fayette Street, Baltimore, MD 21202 | 64,266
Lewiston Housing Authority | 1 College Street, Lewiston, ME 04240 | 8,869
City of Caribou | 25 High Street, Caribou, ME 04736 | 47,296
Portland Housing Authority | 14 Baxter Boulevard, Portland, ME 04101 | 51,301
Westbrook Housing Authority | 30 Liza Harmon Drive, Westbrook, ME 04092 | 39,413
Augusta Housing Authority | 33 Union Street, Suite 3, Augusta, ME 04330-6800 | 31,530
Maine State Housing Authority | 353 Water Street, Augusta, ME 04330 | 54,033
Bangor Housing Authority | 161 Davis Road, Bangor, ME 04401 | 44,211
Michigan State Housing Development Authority | P.O. Box 30044, 735 East Michigan Avenue, Lansing, MI 48909 | 524,000
Grand Rapids Housing Commission | 1420 Fuller Avenue, Southeast, Grand Rapids, MI 49507 | 124,414
Kent County Housing Commission | 82 Ionia Avenue, Northwest, Grand Rapids, MI 49503 | 114,776
Wyoming Housing Commission | 2450 36th Street, Southwest, Wyoming, MI 49519 | 65,500
Pontiac Housing Commission | 132 Franklin Boulevard, Pontiac, MI 48341 | 47,150
Saginaw Housing Commission | 1803 Norman Street, Saginaw, MI 48605-3225 | 84,788
Plymouth Housing Commission | 1160 Sheridan, Plymouth, MI 48170-1560 | 43,163
City of Westland | 32715 Dorsey, Westland, MI 48186 | 32,468
Muskegon Housing Commission | 1080 Terrace, Muskegon, MI 49442 | 42,884
Mankato Economic Development Authority | P.O. Box 3368, 10 Civic Center Plaza, Mankato, MN 56002-3368 | 103,545
South Central MN Multi-County HRA | 410 Jackson Street, Suite 300, Mankato, MN 56001 | 74,219
Housing & Redevelopment Authority of Clay County | P.O. Box 99, 116 Center Avenue East, Dilworth, MN 56529 | 63,814
Brainerd Housing and Redevelopment Authority | 324 East River Road, Brainerd, MN 56401 | 43,018
Dakota County Community Development Agency | 1228 Town Centre Drive, Eagan, MN 55123 | 24,145
Housing Authority of St. Louis Park | 5005 Minnetonka Boulevard, St. Louis Park, MN 55416-2216 | 19,955
Northwest Minnesota Multi-County HRA | P.O. Box 128, 205 Garfield Avenue, Mentor, MN 56736 | 37,337
Metropolitan Council | 390 Robert Street North, St. Paul, MN 55101 | 62,017
Housing & Redevelopment Authority of Duluth, MN | P.O. Box 16900, 222 East Second Street, Duluth, MN 55816-0900 | 46,266
Southeastern Minnesota Multi-County HRA | 134 East Second Street, Wabasha, MN 55981 | 35,354
Washington County Housing and Redevelopment Authority | 321 Broadway Avenue, St. Paul Park, MN 55071 | 33,855
Scott County Housing and Redevelopment Authority | 323 South Naumkeag Street, Shakopee, MN 55379-1652 | 50,500
Housing and Redevelopment Authority of Virginia | P.O. Box 1148, Pine Mill Court, Virginia, MN 55792-3097 | 56,986
Housing Authority of the City of Columbia, Missouri | 201 Switzler Street, Columbia, MO 65203 | 40,318
Ripley County Public Housing Agency | 3019 Fair Street, Poplar Bluff, MO 63901-7044 | 33,207
Housing Authority of the City of Liberty, Missouri | 17 East Kansas Street, Liberty, MO 64068 | 43,332
Housing Authority of Kansas City, Missouri | 301 East Armour, Kansas City, MO 64111 | 143,360
Jasper County Public Housing Authority | P.O. Box 207, 302 Joplin Street, Joplin, MO 64802-0207 | 27,362
Franklin County Public Housing | P.O. Box 920, Hillsboro, MO 63050 | 42,144
Phelps County Public Housing Agency | #4 Industrial Drive, St. James, MO 65559 | 52,928
North East Community Action Corp., dba Lincoln County PHA | 16 North Court Street, P.O. Box 470, Bowling Green, MO 63334 | 110,266
Housing Authority of St. Louis County | 8865 Natural Bridge Road, St. Louis, MO 63121 | 93,111
St. Clair County PHA | P.O. Box 125, 106 West Fourth Street, Appleton City, MO 64724 | 111,316
Saint Francois County Public Housing Agency | P.O. Box N, 107 Industrial Drive, Park Hills, MO 63601 | 30,603
Housing Authority of the City of Springfield, Missouri | 421 West Madison Street, Springfield, MO 65806 | 26,036
St. Louis Housing Authority | 4100 Lindell Boulevard, St. Louis, MO 63108 | 51,645
Tennessee Valley Regional Housing Authority | P.O. Box 1329, Corinth, MS 38835 | 87,298
North Delta Regional Housing Authority | P.O. Box 1148, #4 East Second Street, Clarksdale, MS 38614 | 36,360
The Housing Authority of the City of Biloxi | P.O. Box 447, 330 Benachi Avenue, Biloxi, MS 39533-0447 | 40,400
Mississippi Regional Housing Authority VI | P.O. Drawer 8746, 2180 Terry Road, Jackson, MS 39284-8746 | 106,218
The Housing Authority of the City of Meridian | 2425 E Street, Meridian, MS 39301 | 48,480
Mississippi Regional Housing Authority IV | P.O. Box 1051, Columbus, MS 39703 | 37,096
MS Regional Housing Authority No. V | 298 Northside Drive, P.O. Box 419, Newton, MS 39345-0419 | 32,252
Mississippi Regional Housing Authority Number VII | P.O. Box 430, McComb, MS 39649 | 58,674
The Housing Authority of the City of Jackson, MS | 2747 Livingston Road, Jackson, MS 39213 | 50,699
Missoula Housing Authority | 1235 34th Street, Missoula, MT 59801 | 131,000
Housing Authority of Billings | 2415 First Avenue North, Billings, MT 59101 | 39,843
Housing Authority of the City of Asheville | 165 South French Broad Avenue, Asheville, NC 28801 | 70,892
City of Concord Housing Department | P.O. Box 308, 283 Harold Goodman Circle, Concord, NC 28026-0308 | 37,034
Coastal Community Action, Inc | P.O. Box 729, 303 McQueen Avenue, Newport, NC 28570 | 36,556
Chatham County Housing Authority | P.O. Box 637, 190 Sanford Road, Pittsboro, NC 27312-0637 | 46,966
Twin Rivers Opportunities, Inc | 318 Craven Street, New Bern, NC 28563 | 74,688
Housing Authority of the City of Winston-Salem | 500 West Fourth Street, Winston-Salem, NC 27101 | 52,550
Housing Authority of the City of High Point | 500 East Russell Avenue, High Point, NC 27261 | 44,686
Greensboro Housing Authority | P.O. Box 21287, 450 North Church Street, Greensboro, NC 27420-1287 | 121,742
Mountain Projects Inc | 2251 Old Balsam Road, Waynesville, NC 28779 | 32,778
Western Carolina Community Action | P.O. Box 685, 220 King Creek Boulevard, Hendersonville, NC 28793-0685 | 63,809
Sanford Housing Authority | 1000 Carthrage Street, Sanford, NC 27330 | 43,354
Housing Authority of the City of Charlotte | 1301 South Boulevard, Charlotte, NC 28203 | 46,814
Sandhills Community Action Program, Inc | 103 Saunders Street, Carthage, NC 28327 | 32,597
Eastern Carolina Human Services Agency, Inc | 246 Georgetown Road, Jacksonville, NC 28540 | 65,127
Housing Authority of the City of Greenville, NC | 1103 Broad Street, Greenville, NC 27834 | 58,860
East Spencer Housing Authority | P.O. Box 367, 206 South Long Street, East Spencer, NC 28039 | 44,200
Isothermal Planning & Development Commission | P.O. Box 841, 111 West Court Street, Rutherfordton, NC 28139-0841 | 34,723
Housing Authority of the Town of Laurinburg | 1300 Woodlawn Street, Laurinburg, NC 28352 | 118,494
Housing Authority of the City of Kinston, North Carolina | 608 North Queen Street, Kinston, NC 28501 | 40,506
Northwestern Regional Housing Authority | 869 Highway 105 Extension, Suite 10, Boone, NC 28607 | 202,811
Housing Authority of the City of Wilmington, NC | 1524 South 16th Street, Wilmington, NC 28451 | 98,953
Fargo Housing and Redevelopment Authority | 325 Broadway, Fargo, ND 58102 | 40,536
The Housing Authority of the City of Grand Forks ND | 1405 1 Avenue North, Grand Forks, ND 58203 | 146,306
Minot Housing Authority | 108 Burdick Expressway East, Minot, ND 58701 | 41,915
Douglas County Housing Authority | 5404 North 107th Plaza, Omaha, NE 68134-1148 | 51,000
Housing Authority of the City of Omaha | 540 South 27th Street, Omaha, NE 68106-1549 | 84,932
Housing Authority of the City of Lincoln, Nebraska | P.O. Box 5327, 5700 R Street, Lincoln, NE 68505 | 59,159
Goldenrod Regional Housing Authority | P.O. Box 799, 1017 Ave E, Wisner, NE 68791 | 35,350
Manchester Housing and Redevelopment Authority | 198 Hanover Street, Manchester, NH 03104 | 43,674
New Hampshire Housing Finance Authority | 32 Constitution Drive, Bedford, NH 03110 | 220,217
Dover Housing Authority | 62 Whittier Street, Dover, NH 03820 | 65,000
Atlantic City Housing Authority | P.O. Box 1258, 277 North Vermont Avenue, 17th Floor, Atlantic City, NJ 08401 | 87,384
Fort Lee Housing Authority | 1403 Teresa Drive, Fort Lee, NJ 07024 | 98,980
County of Burlington, New Jersey | P.O. Box 6000, Mount Holly, NJ 08060 | 65,500
Housing Authority of the City of Camden | 2021 Watson Street, 2nd Floor, Camden, NJ 08105 | 39,543
Millville Housing Authority | P.O. Box 803, 309 Buck Street, Millville, NJ 08332 | 45,450
Housing Authority of the City of East Orange | 160 Halsted Street, East Orange, NJ 07018 | 128,532
Housing Authority of the Borough of Glassboro | 737 Lincoln Boulevard, Glassboro, NJ 08028 | 46,657
Housing Authority of Gloucester County | 100 Pop Moylan Boulevard, Deptford, NJ 08056 | 84,248
Housing Authority of the City of Jersey City | 400 U.S. Highway #1, Jersey City, NJ 07306 | 111,816
NJ Department of Community Affairs | P.O. Box 051, 101 South Broad Street, Trenton, NJ 08625-0051 | 786,000
Housing Authority of the City of Perth Amboy | P.O. Box 390, 881 Amboy Avenue, Perth Amboy, NJ 08862 | 170,588
Housing Authority of the Township of Woodbridge | 20 Burns Lane, Woodbridge, NJ 07095 | 21,631
Monmouth County Public Housing Agency | 3000 Kozloski Road, Freehold, NJ 07728 | 128,532
Housing Authority of Long Branch | P.O. Box 337, Long Branch, NJ 07740 | 95,359
Housing Authority County of Morris | 99 Ketch Road, Morristown, NJ 07960 | 31,530
Housing Authority of the Borough of Madison | 15 Chateau Thierry Avenue, Madison, NJ 07940 | 53,609
Housing Authority of the Town of Boonton | 125 Chestnut Street, Boonton, NJ 07005-1107 | 64,266
Housing Authority Town of Dover | 215 East Blackwell Street, Dover, NJ 07801 | 62,925
Lakewood Tenants Organization, Inc | P.O. Box 856, 600 West Kennedy Boulevard, Lakewood, NJ 08701 | 114,546
Housing Authority of the Township of Brick | 165 Chambers Bridge Road, Brick, NJ 08723 | 15,578
Lakewood Housing Authority | P.O. Box 1599, 317 Sampson Avenue, Lakewood, NJ 08701 | 64,266
Housing Authority of the City of Paterson | 60 Van Houten Street, Paterson, NJ 07505 | 49,395
The Housing Authority of Plainfield | 510 East Front Street, Plainfield, NJ 07060 | 65,500
Housing Authority of the City of Orange | 340 Thomas Boulevard, Orange, NJ 07050 | 65,500
Bernalillo County Housing Department | 1900 Bridge Boulevard Southwest, Albuquerque, NM 87105 | 114,888
Region VI Housing Authority | 106 East Reed, Roswell, NM 88203 | 54,630
Clovis Housing & Redevelopment Agency, Inc | P.O. Box 1240, 2101 West Grand Avenue, Clovis, NM 88102-1240 | 40,400
Santa Fe County Housing Authority | 52 Camino de Jacobo, Santa Fe, NM 87507-3546 | 108,780
Sante Fe Civic Housing Authority | 664 Alta Vista Street, Sante Fe, NM 87505 | 65,000
Truth or Consequences Housing Authority | 108 Cedar, Truth or Consequences, NM 87901 | 44,746
Taos County Housing Authority | 525 Ranchitos Road, Taos, NM 87571 | 46,460
Housing Authority of the City of Las Vegas | 340 North 11th Street, Las Vegas, NV 89101 | 191,268
Housing Authority of the County of Clark, Nevada | 5390 East Flamingo Road, Las Vegas, NV 89122 | 109,275
Housing Authority of the City of Reno | 1525 East 9th Street, Reno, NV 89512-3012 | 43,023
Housing Authority of the City of North Las Vegas | 1632 Yale Street, North Las Vegas, NV 89030 | 110,410
Cohoes Housing Authority | 100 Manor Sites, Cohoes, NY 12047 | 46,919
Town of Colonie | Memorial Town Hall, Newtonville, NY 12128 | 51,054
Town of Guilderland | Town Hall Route 20, Guilderland, NY 12084 | 50,500
Jamestown Housing Authority | 110 West Third Street, Jamestown, NY 16365 | 34,000
City of North Tonawanda PHA, Belmont Shelter Corp., Agent | 1195 Main Street, Buffalo, NY 14209 | 47,154
Erie County PHA Consortium, Belmont Shelter Corp | 1195 Main Street, Buffalo, NY 14209 | 143,215
Rental Assistance Corporation of Buffalo | 470 Franklin Street, Buffalo, NY 14202 | 143,600
Buffalo Municipal Housing Authority | 300 Perry Street, Buffalo, NY 14204 | 64,250
City of Johnstown | 41 East Main Street, Johnstown, NY 12095 | 32,000
Gloversville Housing Authority | 181 West Street, Gloversville, NY 12078 | 47,752
Rochester Housing Authority | 675 West Main Street, Rochester, NY 14611 | 215,896
Amsterdam Housing Authority | 52 Division Street, Amsterdam, NY 12010 | 48,944
Town of Huntington Housing Authority | 1 A Lowndes Avenue, Huntington Station, NY 11746 | 59,590
North Hempstead Housing Authority Inc | Pond Hill Road, Great Neck, NY 11020-1599 | 50,500
New York State HFA/Division of Housing & Community Renewal | 25 Beaver Street, Room 732, New York, NY 10004 | 221,246
New York State HFA/Division of Housing & Community Renewal | 25 Beaver Street, Room 732, New York, NY 10004 | 921,010
Syracuse Housing Authority | 516 Burt Street, Syracuse, NY 13202 | 116,426
Geneva Housing Authority | P.O. Box 153, 41 Lewis Street, Geneva, NY 14456 | 49,427
Village of Highland Falls | 303 Main Street, Highland Falls, NY 10928 | 32,000
Village of Kiryas Joel Housing Authority | 51 Forest Road, Suite 360, Monroe, NY 10950 | 64,265
City of Oswego Community Development Office | 20 West Oneida Street, 3rd Floor, Oswego, NY 13126 | 45,753
City of Fulton Community Development Agency | 125 West Broadway, Fulton, NY 13069 | 29,917
Troy Housing Authority | One Eddy's Lane, Troy, NY 12180 | 65,064
Mechanicville Housing Authority | Harris Avenue, Mechanicville, NY 12118 | 32,000
Village of Ballston Spa | 66 Front Street, Ballston Spa, NY 12020 | 32,320
Village of Corinth | 260 Main Street, Corinth, NY 12822 | 32,259
Village of Scotia | 4 North Ten Broeck Street, Scotia, NY 12302 | 27,933
Municipal Housing Authority of the City of Schenectady | 375 Broadway, Schenectady, NY 12305 | 92,846
Town of Rotterdam | Town Hall-Vinewood Avenue, Schenectady, NY 12306 | 53,185
North Fork Housing Alliance, Inc | 116 South Street, Greenport, NY 11944 | 37,500
Town of Smithtown | 99 West Main Street, Smithtown, NY 11787 | 48,244
Town of Babylon Housing Assistance Agency | 281 Phelps Lane, Room #9, North Babylon, NY 11703 | 48,131
Monticello Housing Authority | 76 Evergreen Drive, Monticello, NY 12701 | 35,000
Ithaca Housing Authority | 800 South Plain Street, Ithaca, NY 14850 | 61,941
New Rochelle Municipal Housing Authority | 50 Sickles Avenue, New Rochelle, NY 10801-3416 | 63,630
Albany Housing Authority | 200 South Pearl Street, Albany, NY 12202-1834 | 144,750
City of Utica Section 8 Program | 1 Kennedy Plaza, Utica, NY 13502 | 29,429
Town of Poughkeepsie Section 8 Housing Program NY568 | 1 Overocker Road, Poughkeepsie, NY 12603 | 52,306
Adams Metropolitan Housing Authority | 401 East Seventh Street, Manchester, OH 45144 | 38,519
Allen Metropolitan Housing Authority | 600 South Main Street, Lima, OH 45804 | 38,340
City of Middletown | 1040 Central Avenue, Middletown, OH 45044 | 39,939
Springfield Metropolitan Housing Authority | 101 West High Street, Springfield, OH 45502 | 43,332
Clinton Metropolitan Housing Authority | 478 Thorne Avenue, Wilmington, OH 45177-1222 | 45,000
Parma Public Housing Agency | 1440 Snow Road, Room 306, Parma, OH 44134 | 40,000
Cuyahoga Metropolitan Housing Authority | 3400 Hamilton Avenue, Cleveland, OH 44114 | 44,142
Delaware Metropolitan Housing Authority | P.O. Box 1292, 222 Curtis Street, Delaware, OH 43015-1292 | 45,619
Erie Metropolitan Housing Authority | 322 Warren Street, Sandusky, OH 44870 | 50,132
Fairfield Metropolitan Housing Authority | 315 North Columbus Street, Suite 200, Lancaster, OH 43130 | 46,823
Fayette Metropolitan Housing Authority | 121 East Street, Washington CH, OH 43160 | 32,581
Cambridge Metropolitan Housing Authority | P.O. Box 1388, 1100 Maple Court, Cambridge, OH 43725 | 31,934
CMHA | 16 West Central Parkway, Cincinnati, OH 45202-7210 | 207,819
Jackson Metropolitan Housing Authority | P.O. Box 619, 249 West 13th Street, Wellston, OH 45692 | 39,452
Jefferson Metropolitan Housing Authority | 815 North 6th Avenue, Steubenville, OH 43952 | 28,000
Knox Metropolitan Housing Authority | 236 South Main Street, Suite 201, Mount Vernon, OH 43050 | 44,884
Lake Metropolitan Housing Authority | 189 First Street, Painesville, OH 44077 | 76,450
Logan County Metropolitan Housing Authority | 116 N. Everett St., Bellefontaine, OH 43311 | 73,576
Lorain Metropolitan Housing Authority | 1600 Kansas Avenue, Lorain, OH 44052 | 48,147
Lucas Metropolitan Housing Authority | P.O. Box 477, 435 Nebraska, Toledo, OH 43604-0477 | 173,954
Medina Metropolitan Housing Authority | 850 Walter Road, Medina, OH 44256 | 118,090
Dayton Metropolitan Housing Authority | P.O. Box 8750, 400 Wayne Avenue, Dayton, OH 45401-8750 | 118,160
Morgan Metropolitan Housing Authority | 4580 North Street, Route 376, Northwest, McConnelsville, OH 43756 | 45,193
Morrow Metropolitan Housing Authority | 81 North Rich Street, Mt. Gilead, OH 43338 | 36,485
Zanesville Metropolitan Housing Authority | 407 Pershing Road, Zanesville, OH 43701 | 107,767
Wayne Metropolitan Housing Authority | 345 North Market Street, Wooster, OH 44691 | 42,248
Pickaway Metro Housing Authority | 176 Rustic Drive, Circleville, OH 43113 | 34,918
Pike Metropolitan Housing Authority | 2626 Shyville Road, Piketon, OH 45661 | 33,000
Portage Metropolitan Housing Authority | 2832 State Route 59, Ravenna, OH 44266 | 37,331
Chillicothe Metropolitan Housing Authority | 178 West Fourth Street, Chillicothe, OH 45601 | 33,630
Akron Metropolitan Housing Authority | 100 West Cedar Street, Akron, OH 44307 | 231,078
Trumbull Metropolitan Housing Authority | 4076 Youngstown Road, Suite 101, Warren, OH 44484 | 64,266
Tuscarawas Metropolitan Housing Authority | 134 Second Street Southwest, New Philadelphia, OH 44663 | 54,062
Vinton Metropolitan Housing Authority | Post Office Box 487, 310 West High Street, McArthur, OH 45651 | 115,239
Meigs Housing Authority | 117 East Memorial Drive, Pomeroy, OH 45769 | 14,360
Housing Authority of the City of Norman | 700 North Berry Road, Norman, OK 73069 | 47,766
Housing Authority of the City of Broken Bow | 710 East Third Street, Broken Bow, OK 74728 | 23,000
Oklahoma Housing Finance Agency | 100 Northwest 63rd Street, Suite 200, Oklahoma, OK 73116 | 89,768
Oklahoma City Housing Authority | 1700 Northeast Fourth Street, Oklahoma City, OK 73117 | 56,998
Housing Authority of the City of Stillwater | 807 South Lowry, Stillwater, OK 74074 | 42,998
Housing Authority of the City of Shawnee, OK | P.O. Box 3427, 601 West 7th Street, Shawnee, OK 74801 | 49,699
Housing Authority of the City of Tulsa | 415 East Independence Street, Tulsa, OK 74106 | 38,139
Housing Authority of Clackamas County | P.O. Box 1510, Oregon City, OR 97045-0510 | 64,245
Northwest Oregon Housing Authority | P.O. Box 1149, 147 South Main Avenue, Warrenton, OR 97146 | 32,532
Central Oregon Regional Housing Authority | 405 South West 6th Street, Redmond, OR 97756 | 131,000
Housing Authority of Douglas County | 904 West Stanton, Roseburg, OR 97470 | 53,555
Housing Authority of Jackson County | 2251 Table Rock Road, Medford, OR 97501 | 91,586
Housing Authority & Community Services Agency of Lane County | 177 Day Island Road, Eugene, OR 97401 | 104,577
Housing Authority of Lincoln County | P.O. Box 1470, 1039 Northwest Nye Street, Newport, OR 97365 | 35,307
Linn-Benton Housing Authority | 1250 Queen Avenue Southeast, Albany, OR 97322 | 117,128
Housing Authority of Malheur County | 959 Fortner Street, Ontario, OR 97914 | 22,923
Housing Authority of the City of Salem | 360 Church Street SE, Salem, OR 97301 | 192,390
Marion County Housing Authority | P.O. Box 14500, 555 Court Street, Northeast, Salem, OR 97309-5036 | 53,000
Housing Authority of Portland (HAP) | 135 Southwest Ash Street, Portland, OR 97204 | 246,640
Housing Authority and Urban Renewal Agency of Polk County | P.O. Box 467, 204 Southwest Walnut Avenue, Dallas, OR 97338 | 33,058
Northeast Oregon Housing Authority | P.O. Box 3357, 2608 May Lane, LaGrande, OR 97850 | 82,502
Housing Authority of Washington County | 111 Northeast Lincoln, Suite 200-L, Hillsboro, OR 97124 | 100,096
Housing Authority of Yamhill County | P.O. Box 865, 135 Northeast Dunn Place, McMinnville, OR 97128-0865 | 164,467
Mid Columbia Housing Authority | 312 Court Street, Suite 419, The Dalles, OR 97058 | 81,376
Adams County Housing Authority | 40 East High Street, Gettysburg, PA 17325 | 46,827
Allegheny County Housing Authority | 625 Stanwix Street, Pittsburgh, PA 15243 | 97,914
Housing Authority of the County of Armstrong | 350 South Jefferson Street, Kittanning, PA 16201 | 25,806
Housing Authority of the County of Butler | 114 Woody Drive, Butler, PA 16001 | 88,282
Housing Authority of the County of Chester | 30 West Barnard Street, Suite 2, West Chester, PA 19382 | 99,976
Clarion County Housing Authority | 8 West Main Street, Clarion, PA 16214 | 39,439
Housing/Redevelopment Authority of Cumberland County | 114 North Hanover Street, Carlisle, PA 17013 | 39,160
Housing Authority of the County of Dauphin | P.O. Box 7598, 501 Mohn Street, Dauphin, PA 17113-0598 | 119,112
Delaware County Housing Authority | 1855 Constitution Avenue, Woodlyn, PA 19094-0100 | 42,640
Housing Authority of the City of Erie | 606 Holland Street, Erie, PA 16501-1285 | 45,000
Fayette County Housing Authority | 624 Pittsburgh Road, Uniontown, PA 15401 | 40,000
Housing Authority of the City of Lancaster | 325 Church Street, Lancaster, PA 17602 | 50,777
Lancaster County Housing Authority | 150 North Queen Street, Suite 110, Lancaster, PA 17603 | 101,554
Housing Authority of the County of Lycoming | 1941 Lincoln Drive, Williamsport, PA 17701 | 20,282
Montgomery County Housing Authority | 104 West Main Street, Suite 1, Norristown, PA 19401 | 105,456
Housing Authority of Northumberland County | 50 Mahoning Street, Milton, PA 17847 | 32,878
Philadelphia Housing Authority | 12 South 23rd Street, Philadelphia, PA 19103 | 288,334
Housing Authority of the County of Union | 1610 Industrial Boulevard, Suite 400, Lewisburg, PA 17837 | 45,919
Westmoreland County Housing Authority | 154 South Greengate Road, Greensburg, PA 15601-6392 | 75,172
Housing Authority of the City of York | P.O. Box 1963, 31 South Broad Street, York, PA 17403 | 40,304
Altoona Housing Authority | 2700 Pleasant Valley Boulevard, Altoona, PA 16602 | 55,023
Municipality of Aguas Buenas | P.O. Box 128, Aguas Buenas, PR 00703 | 22,879
Municipality of Juana Diaz | #35 Degetau Street, Juana Diaz, PR 00795 | 23,422
Municipality of Yabucoa | Post Office Box 97, Yabucoa, PR 00767 | 25,642
East Providence Housing Authority | 99 Goldsmith Avenue, East Providence, RI 02914 | 38,380
Housing Authority of the Town of East Greenwich | 146 First Avenue, East Greenwich, RI 02818 | 54,882
Central Falls Housing Authority | 30 Washington Street, Central Falls, RI 02863 | 62,825
Cumberland Housing Authority | 573 Mendon Road, Suite 4, Cumberland, RI 02864 | 49,410
Housing Authority of the City of Providence | 100 Broad Street, Providence, RI 02903 | 123,988
Housing Authority of the City of Pawtucket | 214 Roosevelt Avenue, Pawtucket, RI 02860 | 55,000
Narragansett Housing Authority | 25 Fifth Avenue, Narragansett, RI 02882 | 75,671
Town of North Providence Housing Authority | 945 Charles Street, North Providence, RI 02904 | 54,605
Coventry Housing Authority | 14 Manchester Circle, Coventry, RI 02816 | 50,055
Rhode Island Housing | 44 Washington Street, Providence, RI 02903 | 64,266
Housing Authority of Anderson | 1335 East River Street, Anderson, SC 29621 | 37,486
Beaufort Housing Authority | Post Office Box 1104, 1009 Prince Street, Beaufort, SC 29901 | 25,220
The Housing Authority City of Charleston | 550 Meeting Street, Charleston, SC 29403 | 93,232
Charleston County Housing and Redevelopment Authority | 2106 Mount Pleasant Street, Charleston, SC 29403 | 60,000
North Charleston Housing Authority | 2170 Ashley Phosphate Road, Suite 700, North Charleston, SC 29406 | 45,450
The Housing Authority of the City of Greenville, SC | 511 Augusta Street, Greenville, SC 29605 | 32,379
Myrtle Beach Housing Authority | P.O. Box 2468, 605 10th Avenue North, Myrtle Beach, SC 29578 | 80,147
The Housing Authority of the City of Spartanburg | 201 Caulder Street, Spartanburg, SC 29304 | 92,096
Brookings County Housing and Redevelopment Commission | 1310 Main Avenue South, Brookings, SD 57006-0432 | 36,713
Sioux Falls Housing and Redevelopment Commission | 630 South Minnesota Avenue, Sioux Falls, SD 57104-4825 | 71,695
Mobridge Housing and Redevelopment Commission | P.O. Box 370, 116 4th Street West, Mobridge, SD 57601-0370 | 33,226
Oak Ridge Housing Authority | 10 Van Hicks Lane, Oak Ridge, TN 37830 | 35,571
Town of Crossville Housing Authority | P.O. Box 425, Crossville, TN 38555-0425 | 49,092
TN Housing Development Agency | 404 James Robertson Parkway, Suite 1114, Nashville, TN 37243 | 197,446
Metropolitan Development and Housing Agency | 701 South Sixth Street, Nashville, TN 37206 | 179,997
East Tennessee Human Resource Agency | 9111 Cross Park Drive, Suite D-100, Knoxville, TN 37923 | 33,728
Knoxville's Community Development Corporation | P.O. Box 3550, 901 North Broadway, Knoxville, TN 37927-6663 | 89,130
Jackson Housing Authority | 125 Preston Street, Jackson, TN 38301 | 89,426
Memphis Housing Authority | 700 Adams Avenue, Memphis, TN 38105 | 83,835
Kingsport Housing & Redevelopment Authority | P.O. Box 44, Kingsport, TN 37662 | 80,860
San Antonio Housing Authority | 818 South Flores, San Antonio, TX 78204 | 96,884
Housing Authority of the City of Port Isabel | P.O. Box 1196, Port Isabel, TX 78578 | 25,502
Cameron County Housing Authority | 65 Castellano Circle, Brownsville, TX 78526 | 42,685
City of Garland Housing Agency | 210 Carver, Suite 201B, Garland, TX 75098 | 49,856
The Housing Authority of Dallas, Texas (DHA) | 3939 North Hampton, Dallas, TX 75212 | 364,997
Housing Authority of the City of El Paso | 5300 Paisano, El Paso, TX 79905 | 77,519
Galveston Housing Authority | 4700 Broadway, Suite A-100, Galveston, TX 77551 | 105,781
Texoma Council of Governments | 1117 Gallagher Drive, Sherman, TX 75090 | 60,226
Houston Housing Authority | 2640 Fountain View Drive, Houston, TX 77057 | 78,850
San Marcos Housing Authority | 1201 Thorpe Lane, San Marcos, TX 78666 | 49,753
Housing Authority of the City of Pharr | 104 West Polk, Pharr, TX 78577 | 59,010
Housing Authority of the County of Hidalgo | 1800 North Texas Boulevard, Weslaco, TX 78596 | 36,724
Mission Housing Authority | 1300 East 8th, Mission, TX 78572 | 61,409
Deep East Texas Council of Governments | 210 Premier Drive, Jasper, TX 75951 | 70,300
Housing Authority of the City of Beaumont | 1890 Laurel, Beaumont, TX 77701 | 79,745
Housing Authority of the City of Kingsville | 1000 West Corral Avenue, Kingsville, TX 78363 | 53,212
Housing Authority of the City of Waco | P.O. Box 978, 4400 Cobbs Drive, Waco, TX 76703-0978 | 71,748
Midland County Housing Authority | 1710 Edwards Street, Midland, TX 79701 | 41,217
City of Amarillo | P.O. Box 1971, 509 East 7th, Amarillo, TX 79105-1971 | 34,951
Housing Authority of the City of Fort Worth | 1201 East 13th Street, Fort Worth, TX 76102 | 43,511
Housing Authority of the City of San Angelo | 420 East 28th, San Angelo, TX 76903-2455 | 48,380
Housing Authority of the City of Austin | P.O. Box 6159, Austin, TX 78762-6159 | 127,430
Walker County Housing Authority | 340 Highway 75 North, Suite E, Huntsville, TX 77320 | 45,000
Laredo Housing Authority | 2000 San Francisco Avenue, Laredo, TX 78040 | 44,608
Montgomery County Housing Authority | 1022 McCall Street, Conroe, TX 77301 | 37,669
Housing Authority of the City of Arlington, Texas | 501 West Sanford Street, Suite 20, Arlington, TX 76011 | 105,278
Davis Community Housing Authority | P.O. Box 328, 352 South 200 West, Suite 1, Farmington, UT 84025 | 37,827
Cedar City Housing Authority | 364 South 100 East, Cedar City, UT 84720 | 51,310
Housing Authority of the County of Salt Lake | 3595 South Main, Salt Lake City, UT 84115 | 89,244
Housing Authority of Utah County | 240 East Center Street, Provo, UT 84606-3162 | 43,184
Provo Housing Authority | 650 West 100 North, Provo, UT 84601 | 79,228
Housing Authority of the City of Ogden | 2661 Washington Boulevard, Suite 102, Ogden, UT 84401 | 52,103
Housing Authority of Salt Lake City | 1776 South West Temple, Salt Lake City, UT 84115 | 99,272
Waynesboro Redevelopment and Housing Authority | P.O. Box 1138, 1700 New Hope Road, Waynesboro, VA 22980 | 37,884
Charlottesville Redevelopment and Housing Authority (CRHA) | P.O. Box 1405, 605 East Main Street, Room A040, Charlottesville, VA 22902 | 45,850
Fairfax County Redevelopment and Housing Authority | 3700 Pender Drive, Suite 300, Fairfax, VA 22030 | 65,500
County of Loudoun | 102 Heritage Way NE, Suite 103, Leesburg, VA 20176 | 64,266
Roanoke Redevelopment and Housing Authority | 2624 Salem Turnpike, Northwest, Roanoke, VA 24017-0359 | 49,949
Harrisonburg Redevelopment and Housing Authority | 286 Kelley Street, Harrisonburg, VA 22802 | 23,313
Suffolk Redevelopment & Housing Authority | 530 East Pinner Street, Suffolk, VA 23434 | 51,224
James City County | 5320 Palmer Lane, Suite 1A, Williamsburg, VA 23188-2674 | 47,034
Newport News Redevelopment and Housing Authority | 227 27th Street, P.O. Box 797, Newport News, VA 23607 | 130,457
Virginia Housing Development Authority | 601 South Belvidere Street, Richmond, VA 23220 | 192,210
City of Virginia Beach | 2424 Courthouse Road Municipal Center, Building 18A, Virginia Beach, VA 23456 | 47,480
Hampton Redevelopment and Housing Authority | P.O. Box 280, 22 Lincoln Street, Hampton, VA 23669 | 45,350
Chesapeake Redevelopment and Housing Authority | 1468 South Military Highway, Chesapeake, VA 23320 | 48,998
Richmond Redevelopment and Housing Authority | P.O. Box 26887, 918 Chamberlayne Parkway, Richmond, VA 23261-6887 | 128,144
Danville Redevelopment and Housing Authority | 135 Jones Crossing, Danville, VA 24541 | 35,029
Burlington Housing Authority | 65 Main Street, Burlington, VT 05401 | 98,695
Vermont State Housing Authority | One Prospect Street, Montpelier, VT 05602-3556 | 220,000
Housing Authority of the City of Richland Washington | 1215 Thayer Drive, Richland, WA 99354 | 42,709
Housing Authority of Chelan County and the City of Wenatchee | 1555 South Methow, Wenatchee, WA 98801 | 31,532
Housing Authority of the County of Clallam | 2603 South Francis Street, Port Angeles, WA 98362 | 91,400
City of Longview Housing Authority | 1207 Commerce Avenue, Longview, WA 98632 | 78,282
Housing Authority of Island County | 7 Northwest 6th Street, Coupeville, WA 98239-3400 | 46,847
Housing Authority of Jefferson County | 5210 Kuhn Street, Port Townsend, WA 98368 | 37,461
Seattle Housing Authority | P.O. Box 19028, 120 Sixth Avenue North, Seattle, WA 98109-1028 | 295,119
King County Housing Authority | 600 Andover Park West, Tukwila, WA 98188 | 128,532
Kitsap County Consolidated Housing Authority | 9307 Bayshore Drive, Northwest, Silverdale, WA 98383 | 98,424
Housing Authority of the City of Bremerton | 110 Russell Road, Bremerton, WA 98312 | 42,409
Pierce County Housing Authority—FSS/Homeownership | P.O. Box 45410, 603 South Polk Street, Tacoma, WA 98448-0410 | 128,532
Housing Authority of the City of Tacoma | 902 South L Street, Tacoma, WA 98405 | 64,266
Housing Authority of Snohomish County | 12625 4th Avenue West, Suite 200, Everett, WA 98204 | 19,127
Housing Authority of the City of Everett | P.O. Box 1547, 3107 Colby Avenue, Everett, WA 98201 | 137,160
Housing Authority of Thurston County | 503 West 4th Avenue, Olympia, WA 98501 | 128,532
Housing Authority City of Kelso | 1415 South 10th, Kelso, WA 98626 | 22,844
Brown County Housing Authority | 100 North Jefferson Street, Green Bay, WI 54301 | 128,214
Superior Housing Authority | 1219 North Eighth Street, Superior, WI 54880 | 50,615
Dunn County Housing Authority | 1421 Stout Road, Menomonie, WI 54751 | 36,295
City of Kenosha Housing Authority | 625 52nd Street, Room 98, Kenosha, WI 53140 | 65,000
Oconto County Housing Authority | 120 Main Street, Oconto, WI 54153 | 54,075
Appleton Housing Authority | 925 West Northland Avenue, Appleton, WI 54914-1422 | 38,350
Housing Authority of Racine County | 837 Main Street, Racine, WI 53403 | 64,244
Beloit Community Development Authority | 220 Portland Avenue, Beloit, WI 53511 | 64,266
Community Development Authority | 601 South Cedar, Marshfield, WI 54449-4267 | 20,000
The Huntington West Virginia Housing Authority | 300 Seventh Avenue, West, Huntington, WV 25701 | 36,233
Greenbriar Housing Authority | Route 2, Box 142, Lewisburg, WV 24901 | 59,192
Clarksburg Housing Authority | 433 Baltimore Avenue, Clarksburg, WV 26301 | 33,027
Harrison County Housing Authority | 433 Baltimore Avenue, Clarksburg, WV 26301 | 33,012
Charleston-Kanawha Housing Authority | 911 Michael Avenue, Charleston, WV 25312 | 34,381
The Housing Authority of the City of Fairmont | P.O. Box 2738, 103 12th Street, Fairmont, WV 26555-2738 | 54,089
Benwood Housing Authority | 2200 Marshall Street, Benwood, WV 26031 | 36,208
Housing Authority of Mingo County | P.O. Box 120, 5026 Helena Avenue, Delbarton, WV 25670 | 31,820
Parkersburg Housing Authority | 1901 Cameron Avenue, Parkersburg, WV 26101 | 40,951

[FR Doc. E8-3638 Filed 2-25-08; 8:45 am]

BILLING CODE 4210-67-P